DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 22, 2008.

Interested persons are invited to submit written comments regarding the subject matter of the investigations to the Director, Division of Trade Adjustment Assistance, at the address shown below, not later than December 22, 2008.

The petitions filed in this case are available for inspection at the Office of the Director, Division of Trade Adjustment Assistance, Employment and Training Administration, U.S. Department of Labor, Room C-5311, 200 Constitution Avenue, NW., Washington, DC 20210.

Signed at Washington, DC, this 26th day of November 2008.
Erin Fitzgerald,
Director, Division of Trade Adjustment Assistance.

Appendix
[TAA petitions instituted between 11/10/08 and 11/14/08]
TA-W | Subject firm (petitioners) | Location | Date of institution | Date of petition
64372 | Mitsubishi Motors Manufacturing (Union) | Normal, IL | 11/10/08 | 11/06/08
64373 | Whirlpool (Wkrs) | Milan, TN | 11/10/08 | 11/04/08
64374 | G.E. Healthcare, Verification-Validation Dept. (State) | Seattle, WA | 11/10/08 | 11/04/08
64375 | Emerson Network Power (Comp) | Lorain, OH | 11/10/08 | 11/07/08
64376 | Johnson Controls, Inc. (State) | Suwanee, GA | 11/10/08 | 11/05/08
64377 | Ryder (State) | Norcross, GA | 11/10/08 | 11/05/08
64378 | Hancock Company/DBA Gitman & Co/IAG (Comp) | Ashland, PA | 11/10/08 | 11/07/08
64379 | Chole Hersee Company (Comp) | So. Boston, MA | 11/10/08 | 11/05/08
64380 | Alcoa Rockdale Operations (USW) | Rockdale, TX | 11/10/08 | 11/06/08
64381 | Metlife Insurance (Wkrs) | Tulsa, OK | 11/10/08 | 11/07/08
64382 | Blumenthal Mills (Wkrs) | Marion, SC | 11/10/08 | 11/07/08
64383 | IBM (State) | Hopewell Junction, NY | 11/10/08 | 11/04/08
64384 | Timken Company (State) | Dahlonega, GA | 11/10/08 | 11/05/08
64385 | Android Industries, LLC (State) | Norcross, GA | 11/10/08 | 11/05/08
64386 | Victaulic (USW) | Easton, PA | 11/10/08 | 11/03/08
64387 | U.S.G. (Wkrs) | Cloquet, MN | 11/10/08 | 10/27/08
64388 | Foam Fabricators, Inc. (State) | Forrest City, AR | 11/10/08 | 11/07/08
64389 | A. Schulman, Inc. (Wkrs) | Sharon Center, OH | 11/10/08 | 10/17/08
64390 | Sensata Technologies, Inc. (Comp) | Brownsville, TX | 11/10/08 | 11/05/08
64391 | Harris Stratex Networks (Comp) | San Antonio, TX | 11/10/08 | 11/06/08
64392 | Columbus McKinnon (Wkrs) | Lexington, TN | 11/10/08 | 10/30/08
64393 | Nikko America (Comp) | Dallas, TX | 11/12/08 | 10/15/08
64394 | Ameriprise Financial Incorporated (Wkrs) | Minneapolis, MN | 11/12/08 | 10/31/08
64395 | Armstrong Hardwood Flooring Company (IBT) | Beverly, WV | 11/12/08 | 11/10/08
64396 | Cerro Flow Products, Inc. (USW) | Sauget, IL | 11/12/08 | 11/10/08
64397 | ITT Marine and Leisure (Comp) | Gloucester, MA | 11/12/08 | 11/07/08
64398 | Thayer Coggin, Inc. (Comp) | High Point, NC | 11/12/08 | 11/10/08
64399 | JC Tec Industries, Inc. (Comp) | Annville, KY | 11/12/08 | 11/10/08
64400 | Lincolnton Manufacturing, Inc. (Comp) | Lincolnton, NC | 11/12/08 | 11/11/08
64401 | Qimonda 200nm Facility (Wkrs) | Sandston, VA | 11/12/08 | 11/11/08
64402 | Major Custom Cable (Comp) | Jackson, MO | 11/12/08 | 11/07/08
64403 | Rapco Horizon Company (Comp) | Advance, MO | 11/12/08 | 11/07/08
64403A | Rapco Horizon Company (Comp) | Jackson, MO | 11/12/08 | 11/07/08
64404 | Electronic Data Systems (EDS) (Comp) | Dayton, OH | 11/12/08 | 11/03/08
64405 | ITW Tomco (Wkrs) | Bryan, OH | 11/12/08 | 11/10/08
64406 | Tektronix (State) | Beaverton, OR | 11/13/08 | 11/10/08
64407 | Northern Tool/Star Cutter Co. (48647) | Mio, MI | 11/13/08 | 11/10/08
64408 | Theis Precision Steel (State) | Bristol, CT | 11/13/08 | 11/10/08
64409 | GE Sensing and Inspection Technologies (Union) | St. Marys, PA | 11/13/08 | 11/10/08
64410 | NeoPhotonics Corporation (Rep) | Newark, CA | 11/13/08 | 11/10/08
64411 | Arkansas Aluminum Alloys, Inc. (State) | Hot Springs, AR | 11/13/08 | 11/10/08
64412 | United Airlines (State) | San Francisco, CA | 11/13/08 | 10/27/08
64413 | Visteon System, LLC North Penn Plant (UAW) | Worcester, PA | 11/13/08 | 10/29/08
64414 | Western Union Financial Services (Wkrs) | Bridgeton, MO | 11/13/08 | 10/13/08
64415 | St. Louis Music (Comp) | St. Louis, MO | 11/13/08 | 11/06/08
64416 | New Generations Furniture Company (Comp) | McKenzie, TN | 11/13/08 | 11/12/08
64417 | Wee Ones, Inc. (Comp) | St. Peters, MO | 11/13/08 | 11/05/08
64418 | Blockbuster (State) | McKinney, TX | 11/13/08 | 11/10/08
64419 | ATC Panels, Inc. (Comp) | Franklin, VA | 11/13/08 | 11/12/08
64420 | Nordyne, Inc. (State) | Poplar Bluff, MO | 11/13/08 | 11/10/08
64421 | PASCI, Inc. (Comp) | ImLay City, MI | 11/13/08 | 11/12/08
64422 | Mais Pet Care, US (Wkrs) | Everson, PA | 11/13/08 | 11/12/08
64423 | The Millwork Trading Co., Ltd (Wkrs) | Mill Valley, CA | 11/13/08 | 11/12/08
64424 | Schawk Stamford (Union) | Stamford, CT | 11/13/08 | 11/12/08
64425 | Tenere (State) | Oakdale, MN | 11/13/08 | 11/12/08
64426 | Greif (USW) | Greenville, OH | 11/13/08 | 11/10/08
64427 | Worldtex, Inc. (Comp) | Hickory, NC | 11/14/08 | 11/13/08
64428 | West Penn Plastic, Inc. (Comp) | New Castle, PA | 11/14/08 | 11/13/08
64429 | National Starch and Chemical Company (Comp) | Hazleton, PA | 11/14/08 | 11/03/08
64430 | Maersk (State) | Charlotte, NC | 11/14/08 | 11/13/08
64431 | Alyeska Pipeline Service Company (Comp) | Anchorage, AK | 11/14/08 | 11/10/08
64432 | Shurflo, LLC (Comp) | Cypress, CA | 11/14/08 | 11/03/08
64433 | Riverside Furniture Corporation—Fort Smith (State) | Fort Smith, AR | 11/14/08 | 11/13/08
64434 | Riverside Furniture Corporation—Russellville (State) | Russellville, AR | 11/14/08 | 11/13/08
64435 | Thiele Manufacturing, LLC (UMWA) | Windber, PA | 11/14/08 | 11/13/08
64436 | Georgia Pacific, Inc. (State) | Coos Bay, OR | 11/14/08 | 11/13/08
64437 | United Airlines (IBT) | Seattle, WA | 11/14/08 | 11/13/08
64438 | Boston Scientific (Rep) | Murrieta, CA | 11/14/08 | 11/12/08
64439 | Cooper's Hosiery (State) | Fort Payne, AL | 11/14/08 | 11/13/08
64440 | JDSU (Wkrs) | San Jose, CA | 11/14/08 | 11/10/08

[FR Doc. E8-29168 Filed 12-9-08; 8:45 am]

BILLING CODE 4510-FN-P